DEPARTMENT OF TRANSPORTATION

Office of the Secretary

Aviation Proceedings, Agreements Filed During October 7, Through October 18, 2002

The following Agreements were filed with the Department of Transportation under the provisions of 49 U.S.C. sections 412 and 414. Answers may be filed within 21 days after the filing of the application.

Applications filed during week ending: October 11, 2002.

Docket Number: OST-2002-13557.

Date Filed: October 9, 2002.

Parties: Members of the International Air Transport Association.

Subject: PTC COMP 0971 dated 11 October 2002. Mail Vote 243—Resolution 004a. Restriction of Applicability (Amending) r1. Intended effective date: 21 October 2002.

Docket Number: OST-2002-13560.

Date Filed: October 9, 2002.

Parties: Members of the International Air Transport Association.

Subject: CTC COMP 0425 dated 11 October 2002. Mail Vote 244—Resolution 004a. Restriction of Applicability of Resolutions (Amending) r1. Intended effective date: 21 October 2002.

Docket Number: OST-2002-13563.

Date Filed: October 9, 2002.

Parties: Members of the International Air Transport Association.

Subject: PTC23 ME-TC3 0154 dated 8 October 2002. TC23/TC123 Middle East-TC3 (except South East Asia). Expedited Resolution 002p. Intended effective date: 15 November 2002.

Docket Number: OST-2002-13565.

Date Filed: October 9, 2002.

Parties: Members of the International Air Transport Association.

Subject: PTC23 EUR-JK 0086 dated 8 October 2002. TC23/TC123 Europe-Japan/Korea Expedited Resolution 002an. PTC23 EUR-JK 0087 dated 8 October 2002. TC23/TC123 Europe-Japan/Korea Expedited Resolution 002ao. Intended effective date: 15 November 2002/1 January 2003.

Docket Number: OST-2002-13579.

Date Filed: October 9, 2002.

Parties: Members of the International Air Transport Association.

Subject: PAC/Reso/417 dated August 5, 2002. Finally Adopted Resolutions R-1 to R-12. Minutes—PAC/Meet/175 dated August 5, 2002. Intended effective date: January 1, 2003.

Applications filed during week ending: October 18, 2002.

Docket Number: OST-2002-13606.

Date Filed: October 16, 2002.

Parties: Members of the International Air Transport Association.

Subject: PTC2 AFR-TC3 0178 dated 11 October 2002. TC23 Africa-South Asian Subcontinent. Expedited Resolutions 002e, 15v r1—r2. PTC2 AFR-TC3 0179 dated 11 October 2002. TC23 Africa-South West Pacific. Expedited Resolutions 002n, 15v-r3—r4. Intended effective date: 15 November 2002.

Dorothy Y. Beard,
Federal Register Liaison.

[FR Doc. 02-27386 Filed 10-25-02; 8:45 am]

BILLING CODE 4910-62-P